DEPARTMENT OF TRANSPORTATION

Federal Aviation Administration

14 CFR Parts 61 and 141

[Docket No.: FAA-2013-0809]

Notice of Policy Change for the Use of FAA Approved Training Devices

AGENCY: Federal Aviation Administration (FAA), DOT.

ACTION: Policy statement.

SUMMARY: The notification provides information and guidance concerning the use of FAA approved ground trainers, Personal Computer Aviation Training Device's (PCATD), Flight Training Devices (FTD) level 1-3, and Aviation Training Devices (ATD).

DATES: Effective Date: The policy described herein is effective February 3, 2014.

FOR FURTHER INFORMATION CONTACT: For technical questions concerning this policy notice, contact AFS-810, Airmen Certification and Training Branch, 800 Independence Ave. SW., Washington, DC 20591 202-385-9600

SUPPLEMENTARY INFORMATION:

Background

Since the 1970s, the FAA has gradually expanded the use of flight simulation for training—first permitting simulation to be used in air carrier training programs and eventually permitting pilots to credit time in devices toward the aeronautical experience requirements for certification and recency. Currently, Title 14 of the Code of Federal Regulations (14 CFR) part 60 governs the qualification of full flight simulators and flight training devices (levels 4 through 7). The FAA has, however, approved other devices for use in certification training under the authority provided in 14 CFR 61.4(c).

For over 30 years, the FAA has issued Letters of Authorization (LOAs) to manufacturers of ground trainers, personal computer-based aviation training devices (PCATD), FTDs (levels 1 through 3), basic aviation training devices (BATD), and advanced aviation training devices (AATD). These LOAs were based on guidance provided in advisory circulars that set forth the qualifications and capabilities for the devices. Prior to 2008, most LOAs were issued under the guidance provided in advisory circular AC 61-126, Qualification and Approval of Personal Computer-Based Aviation Training Devices, and AC 120-45, Airplane Flight Training Device Qualification. Since July 2008, the FAA has been approving devices in accordance with Advisory Circular 61-136, FAA Approval of Basic Aviation Training Devices (BATD) and Advanced Aviation Training Devices (AATD).

Generally, the LOAs that have been issued list the approved uses for the devices with specific regulatory references. Several of these regulations have changed over the years, and some approved uses are no longer permissible.¹ In addition, the majority of these LOAs were issued to manufacturers without a specific expiration date. The LOAs simply placed obligations on the manufacturer and the eventual operator of the device to ensure that the device was properly maintained and that annual reports were submitted to the FAA regarding the status and continued use of the device. It is unclear the extent that these reporting requirements have been satisfied. Moreover, devices approved prior to July 2008 have not been assessed under the most current guidance provided in AC 61-136.

¹ Some of these devices at one time were approved for practical tests for pilot certification and ratings. However, because these trainers are not tested to the levels of fidelity required for FFSs and FTDs, they are no longer listed in the PTS for use during testing. Specifically, level 1-3 flight training devices have been removed from the task table in each PTS.

In 2009, the FAA issued a final rule that placed express limits on the amount of instrument training in an ATD that could be credited toward the aeronautical experience requirements for an instrument rating. 74 FR 42500 (Aug. 21, 2009). Under § 61.65(i), no more than 10 hours of instrument time received in an ATD may be credited toward instrument time requirements of that section. Likewise, appendix C to part 141 states that credit for instrument training in an ATD cannot exceed 10% of the total flight training hour requirements of an approved course.

The FAA has determined that it may not use LOAs as a means to exceed express limits that have been placed in the regulations through notice and comment rulemaking. As such, any LOAs for new devices that the FAA has issued since August 2013 reflect current regulatory requirements. Because, however, manufacturers and operators who hold LOAs issued prior to August 2013, have acted in reliance on FAA statements that were inconsistent with the regulations, the FAA is granting a limited exemption from the requirement in the regulations to provide manufacturers, operators, and pilots currently training for an instrument rating time to adjust to the reduction in hours. This short-term exemption will provide an interim period to transition the LOAs for currently approved devices in accordance with this policy.² This exemption is in the public interest because it will prevent undue harm caused by reasonable reliance on FAA statements.

² The FAA is granting an exemption from § 61.65(i) for pilots applying for an instrument rating who have received training from a training provider who operates an ATD under the reduced training hours. The FAA is also granting an exemption to training providers from appendix C to part 141 to permit them to continue to train during the transition period under training programs with more than 10% of the training time in ATDs.

In addition, the FAA notes that, notwithstanding any statements in existing LOAs, only FFS and FTDs levels 4-7 approved under part 60 may be used during a practical test as noted in the appropriate Practical Test Standards (PTS) for the certificate or rating sought. The current PTSs reflect that no portion of a practical test may be conducted in an ATD.

Policy

Due to regulatory changes, new standards for qualifying aviation training devices, and ongoing improvements in technology, the FAA has determined that it is necessary to ensure all approved devices meet current standards contained in AC 61-136 (issued in July 2008) and are consistent with existing regulations. As such, all manufacturers of devices ³ (including ground trainers, PCATD, FTD level 1-3, and ATDs) who currently hold an LOA (or any other official method of approval) must apply for a new LOA. By January 1, 2015, all FAA approved training devices must have an LOA that has been reissued by AFS-800 (excluding part 60 approvals) that: (1) Assesses the training device under the standards in current AC 61-136; (2) contains an expiration date; and (3) reflects current regulatory requirements. The only exception to the reapplication requirement in this notice applies to new devices that received their first LOAs after August 23, 2013. As noted, these devices have been approved in accordance with AC 61-136, contain expiration dates, and reference the appropriate regulatory limitations.

³ The FAA expects that most requests for approval will come from the ATD manufacturer. However, the FAA understands that in some cases the manufacturer may no longer exist or may not wish to seek approval for a particular device. As such, the FAA will accept approval requests from individual ATD owners. An ATD owner can be considered synonymous with a manufacturer for the purpose of submitting and receiving device approvals as described in this notice.

After January 1, 2015, all LOAs previously issued prior to August 23, 2013, for training devices approved to meet requirements under parts 61 and 141 will terminate. This means that experience obtained in these devices may no longer be credited toward aeronautical experience or currency requirements in parts 61 and 141. In order to promote standardization, LOAs for any training device used for certification and recency under parts 61 and 141 that are not approved by the National Simulator Program AFS-205 will be issued only by General Aviation and Commercial Division, AFS-800. The FAA notes that, as part of this process, renewed LOAs (as well as any LOA issued for a new device) will contain limitations for instrument training that are consistent with the express aeronautical experience limits for an instrument rating found in § 61.65 and appendix C to part 141.

LOAs that are reissued in accordance with this notice will contain language noting the previously discussed exemption that will permit operators of approved devices to continue to use ATDs at the higher levels set forth in the previously approved LOAs—and pilots applying for an instrument rating will be permitted to take the practical test with the aeronautical experience set forth in the LOAs—until January 1, 2015. After this date, no applicant for an instrument rating may use more than 10 hours of instrument training in an ATD toward the minimum aeronautical experience requirements required to take the practical test for an instrument rating. In addition, no graduate of a training program approved under appendix C to part 141 may credit more than 10% of the required coursework in ATDs (unless that program has been approved in accordance with § 141.55(d) or (e)).⁴ The FAA expects manufacturers and operators to adjust training in advance of this date so that no applicant for an instrument rating is ineligible. The FAA notes that the regulations do not place a limit on the amount of time that a person may train in an ATD. Rather, the regulations place a limit on the amount of time in an ATD that may be credited toward the aeronautical experience requirements for an instrument rating. Operators may continue to use these devices to improve pilot proficiency and reduce more costly time in an aircraft.

⁴ Part 141 Appendix C describes the curriculum requirements for an approved training course. After January 1, 2015, no courses approved under part 141 appendix C rating may allow for more than 10% of the required coursework to have been completed in an ATD. After January 1, 2015, no person may graduate from a course that allows for more than 10% of the required coursework to have been completed in an ATD. The exception is those courses that have been approved under § 141.55 (d) and (e). The FAA recognizes that some pilot schools will need to revise their instrument-rating training program to reflect the 10% crediting limitation and resubmit for approval. Alternatively, a pilot school may elect to resubmit their training course for approval under § 141.55 (d) and (e).

In order for any device, regardless of issue date, to be used to gain the aeronautical experience and currency described in the letter of authorization, that device must continue to perform to standards required by that authorization. In addition, all conditions noted on the letter of authorization must continue to be valid. These conditions may include an annual periodic inspection and stakeholder report verifying performance to original standards.

Applications for new LOAs

As noted above, all devices that received initial approval before August 23, 2013 will require a new LOA to be issued before January 1, 2015, in order to continue to be used to obtain aeronautical experience to meet requirements under parts 61 and 141. The FAA does not intend to reevaluate every individual device as is the case for FFSs and FTDs under part 60. Rather, the FAA wants to ensure that the type of device meets acceptable standards for use in crediting aeronautical experience and currency. The manufacturer will be responsible for providing a copy of the renewed LOA to any operator of the device.

Devices that received approval between July 14, 2008, and August 23, 2013

Devices that were approved between July 14, 2008 and August 23, 2013 have been assessed under the current standards in AC 61-136; however, these devices may not contain the current regulatory limits of § 61.65(i) or part 141 Appendix C. Any LOA issued after July 14, 2008, may be reissued without the need for additional evaluation. Manufacturers must, however, submit a letter to the General Aviation and Commercial Division (AFS-800), including a copy of the original authorization, requesting a revised LOA that will contain regulatory references that reflect current requirements. If the LOA contains an expiration date, this new authorization will retain the original expiration date.⁵ For LOAs originally issued without an expiration date, the new LOA will reflect a five-year expiration date.

⁵ Since January 2012, all LOAs have been issued to manufacturers with a five-year expiration date.

The new LOA will replace and supersede the previous authorization. However, as noted, the FAA will continue to accept applicants for the instrument rating practical test who need to credit more than 10 hours of instrument time in an ATD to meet the minimum aeronautical experience requirements until January 1, 2015.

Devices approved prior to July 14, 2008

All devices (including ground trainers, PCATD, FTD level 1-3, and ATDs) for which an LOA (or any other official method of approval) was issued prior to July 2008 must be reevaluated under the standards set forth in the current advisory circular. Manufacturers of these devices will be required to demonstrate that the device meets the current standards for ATDs set forth in AC 61-136. The manufacturer must request this evaluation by the means described in AC 61-136 no later than July 1, 2014, in order to ensure that the FAA has adequate time to evaluate the device and issue a new LOA before the existing LOA terminates on January 1, 2015. The FAA cannot guarantee that applications for reissued LOAs that are received after July 1, 2014, will be processed prior to the termination date. The LOAs reissued for these devices will be revised to contain expiration dates and reflect current regulatory requirements and references.

Disposition

The FAA has initiated a revision to AC 61-136 and will amend obsolete guidance concerning the approval and use of PCATD's, FTD's (level 1-3) and ATDs. The FAA will insert into AC 61-136 all of the above policy concerning these training devices. Please direct any questions or requests concerning information in this notice to AFS-810, Airmen Certification and Training Branch, 800 Independence Ave. SW., Washington, DC 20591.

Issued in Washington, DC, on December 19, 2013.
John Barbagallo,
Acting Deputy Director, Flight Standards Service.

[FR Doc. 2013-31094 Filed 12-31-13; 8:45 am]

BILLING CODE 4910-13-P